DEPARTMENT OF TRANSPORTATION

Federal Aviation Administration

14 CFR Part 39

[Docket No. FAA-2017-0142; Product Identifier 2016-SW-013-AD; Amendment 39-18979; AD 2017-16-02]

RIN 2120-AA64

Airworthiness Directives; Agusta S.p.A. Helicopters

AGENCY: Federal Aviation Administration (FAA), DOT.

ACTION: Final rule.

SUMMARY: We are adopting a new airworthiness directive (AD) for Agusta S.p.A. Model A109S helicopters. This AD requires adding limitations to the rotorcraft flight manual (RFM). This AD was prompted by a report of a cabin liner detaching from the helicopter and hitting the main rotor (M/R) blades during flight. The actions of this AD are intended to prevent an unsafe condition on these products.

DATES: This AD is effective September 5, 2017.

ADDRESSES: For service information identified in this final rule, contact AgustaWestland, Product Support Engineering, Via del Gregge, 100, 21015 Lonate Pozzolo (VA) Italy, ATTN: Maurizio D'Angelo; telephone 39-0331-664757; fax 39 0331-664680; or at http://www.agustawestland.com/technical-bulletins. You may review the referenced service information at the FAA, Office of the Regional Counsel, Southwest Region, 10101 Hillwood Pkwy., Room 6N-321, Fort Worth, TX 76177.

Examining the AD Docket

You may examine the AD docket on the Internet at http://www.regulations.gov by searching for and locating Docket No. FAA-2017-0142; or in person at the Docket Operations Office between 9 a.m. and 5 p.m., Monday through Friday, except Federal holidays. The AD docket contains this AD, the European Aviation Safety Agency (EASA) AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

On April 10, 2017, at 82 FR 17156, the Federal Register published our notice of proposed rulemaking (NPRM), which proposed to amend 14 CFR part 39 by adding an AD that would apply to Agusta S.p.A. Model A109S helicopters. The NPRM proposed to require, within 15 hours time-in-service, revising the Limitations section of the RFM by inserting a copy of this AD or by making pen-and-ink changes to add several limitations: Prohibiting flight with a passenger cabin sliding door opened or removed for helicopters with Internal Arrangement part number (P/N) 109-0814-21-101 installed; prohibiting flight with a passenger cabin sliding door open unless modification P/N 109-0814-35 is installed; prohibiting flight with a passenger cabin sliding door open unless the doors are locked; establishing a maximum VNE with a passenger cabin sliding door opened or removed; establishing a maximum airspeed for opening or closing a passenger cabin sliding door during flight; and prohibiting instrument flight rule operation with any door opened or removed.

The NPRM was prompted by AD No. 2015-0227, dated November 19, 2015, issued by EASA, which is the Technical Agent for the Member States of the European Union, to correct an unsafe condition for the AgustaWestland S.p.A. Model A109S helicopters. EASA advises of a report that the right-hand lower cabin liner of Internal Arrangement P/N 109-0814-21-101 detached and hit three M/R blades during a landing with the right-hand door removed. EASA states that this condition, if not corrected, could lead to further occurrences of in-flight lower cabin liner detachment, possibly resulting in damage to or loss of control of the helicopter. Therefore, the EASA AD requires revising the RFM to provide limitations on flights with a passenger cabin sliding door opened or removed. EASA considers its AD an interim action and states further AD action may follow.

Comments

We gave the public the opportunity to participate in developing this AD, but we did not receive any comments on the NPRM.

FAA's Determination

This helicopter has been approved by the aviation authority of Italy and is approved for operation in the United States. Pursuant to our bilateral agreement with Italy, EASA, its technical representative, has notified us of the unsafe condition described in the EASA AD. We are issuing this AD because we evaluated all information provided by EASA and determined the unsafe condition exists and is likely to exist or develop on other helicopters of the same type design and that air safety and the public interest require adopting the AD requirements as proposed.

Interim Action

We consider this AD to be an interim action. The design approval holder is currently developing a modification that will address the unsafe condition identified in this AD. Once this modification is developed, approved, and available, we might consider additional rulemaking.

Related Service Information

We reviewed AgustaWestland A109S RFM, Document No. 109G0040A013, Issue 2, Revision 3, dated April 23, 2015, which adds several limitations regarding flight with a passenger cabin sliding door opened or removed.

Costs of Compliance

We estimate that this AD affects 19 helicopters of U.S. Registry. We estimate that operators may incur the following costs in order to comply with this AD. At an average labor rate of $85 per work-hour, revising the RFM takes about 0.5 work-hour, for an estimated cost of $43 per helicopter, or $817 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-16-02 Agusta S.p.A.: Amendment 39-18979; Docket No. FAA-2017-0142; Product Identifier 2016-SW-013-AD.

(a) Applicability

This AD applies to Model A109S helicopters, certificated in any category.

(b) Unsafe Condition

This AD defines the unsafe condition as detachment of an internal arrangement lower cabin liner. This condition could result in damage to a main rotor blade and subsequent loss of control of the helicopter.

(c) Effective Date

This AD becomes effective September 5, 2017.

(d) Compliance

You are responsible for performing each action required by this AD within the specified compliance time unless it has already been accomplished prior to that time.

(e) Required Actions

Within 15 hours time-in-service, revise Section 1 Limitations of the AgustaWestland Model A109S Rotorcraft Flight Manual (RFM) by inserting a copy of this AD into the RFM or by making pen-and-ink changes to add the information in Figure 1 to paragraph (e) of this AD.

Figure 1 to Paragraph (e)
Flight with either one or both passenger cabin sliding doors opened or removed is prohibited if Internal Arrangement P/N 109-0814-21-101 is installed.
Flight with either one or both passenger cabin sliding doors opened is prohibited if passenger door modification P/N 109-0814-35 is not installed.
Flight with one or both passenger cabin sliding doors opened is allowed only with the doors locked.
VNE with any passenger cabin sliding door opened or removed: 75 KIAS.
Maximum airspeed for passenger cabin sliding doors opening or closing: 50 KIAS.
IFR operation is prohibited with any door opened or removed.

(f) Credit for Previous Actions

Incorporating the changes contained in AgustaWestland A109S RFM, Document No. 109G0040A013, Issue 2, Revision 3, dated April 23, 2015, into Section 1 of the RFM before the effective date of this AD is considered acceptable for compliance with this AD.

(g) Special Flight Permits

Special flight permits are prohibited.

(h) Alternative Methods of Compliance (AMOCs)

(1) The Manager, Safety Management Section, FAA, may approve AMOCs for this AD. Send your proposal to: Matt Fuller, Senior Aviation Safety Engineer, Safety Management Section, Rotorcraft Standards Branch, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) AgustaWestland A109S RFM Document No. 109G0040A013, Issue 2, Revision 3, dated April 23, 2015, which is not incorporated by reference, contains additional information about the subject of this AD. For service information identified in this AD, contact AgustaWestland, Product Support Engineering, Via del Gregge, 100, 21015 Lonate Pozzolo (VA) Italy, ATTN: Maurizio D'Angelo; telephone 39-0331-664757; fax 39 0331-664680; or at http://www.agustawestland.com/technical-bulletins. You may review a copy of the service information at the FAA, Office of the Regional Counsel, Southwest Region, 10101 Hillwood Pkwy, Room 6N-321, Fort Worth, TX 76177.

(2) The subject of this AD is addressed in European Aviation Safety Agency (EASA) AD No. 2015-0227, dated November 19, 2015. You may view the EASA AD on the Internet at http://www.regulations.gov in Docket No. FAA-2017-0142.

(j) Subject

Joint Aircraft Service Component (JASC) Code: 2500, Cabin Equipment/Furnishings.

Issued in Fort Worth, Texas, on July 25, 2017.
Scott A. Horn,
Deputy Director for Regulatory Operations, Compliance & Airworthiness Division, Aircraft Certification Service.

[FR Doc. 2017-16144 Filed 7-31-17; 8:45 am]

BILLING CODE 4910-13-P